DEPARTMENT OF THE INTERIOR

Bureau of Land Management

[UTW0000000-LR14300000-ET0000; UTU-65685]

Public Land Order No. 7794; Extension of Public Land Order No. 6941; Utah

AGENCY: Bureau of Land Management, Interior.

ACTION: Public Land Order.

SUMMARY: This order extends the duration of the withdrawal created by Public Land Order No. 6941 for an additional 20-year period. The extension is necessary to continue the protection of the unique geologic, recreational, and visual resources of the Bonneville Salt Flats, which would otherwise expire on August 5, 2012.

DATES: Effective Date: August 6, 2012.

FOR FURTHER INFORMATION CONTACT: Shauna Derbyshire, Bureau of Land Management, Utah State Office, P. O. Box 45155, Salt Lake City, Utah 84145-0155, 801-539-4132, or Dave Watson, Bureau of Land Management, Salt Lake Field Office, 2370 South 2300 West, Salt Lake City, Utah 84119, 801-977-4368. Persons who use a telecommunications device for the deaf (TDD) may call the Federal Information Relay Service (FIRS) at 1-800-877-8339 to contact either of the above individuals. The FIRS is available 24 hours a day, 7 days a week, to leave a message or question with the above individuals. You will receive a reply during normal business hours.

SUPPLEMENTARY INFORMATION: The purpose for which the withdrawal was first made requires this extension to continue protection of the Bonneville Salt Flats. The withdrawal extended by this order will expire on August 5, 2032, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6941 (57 FR 34685 (1992)), as corrected (76 FR 81525 (2011)), which withdrew approximately 30,203.06 acres of public land from settlement, sale, location, or entry under the general land laws, including the United States mining laws, but not from leasing, under the mineral leasing laws, to protect the Bonneville Salt Flats, is hereby extended for an additional 20-year period until August 5, 2032. An additional 3,200.24 acres of non-Federal land described in PLO No. 6941 and located within the exterior boundary of the Bonneville Salt Flats, if acquired by the United States, would also be withdrawn by this order.

Dated: July 26, 2012.
Rhea S. Suh,
Assistant Secretary—Policy, Management and Budget.

[FR Doc. 2012-19503 Filed 8-8-12; 8:45 am]

BILLING CODE 4310-DQ-P